DEPARTMENT OF DEFENSE

Office of the Secretary

[Docket No. DOD-2007-HA-0056]

Submission for OMB Review; Comment Request

ACTION: Notice.

The Department of Defense has submitted to OMB for clearance, the following proposal for collection of information under the provisions of the Paperwork Reduction Act (44 U.S.C. Chapter 35).

DATES: Consideration will be given to all comments received by October 18, 2007.

Title and OMB Number: Facilitating Provider Acceptance of TRICARE Standard; OMB Control Number 0720-TBD.

Type of Request: New.

Number of Respondents: 72.

Response Per Respondent: 1.

Annual Response: 72.

Average Burden Per Response: 1.5 hours.

Annual Burden Hours: 108.

Needs and uses: The information collection requirement is necessary to obtain specific responses why some providers do not participate in TRICARE and then to learn what kinds of actions by the TRICARE Management Activity, working in conjunction with the TRICARE Regional Offices and the three managed care support contractors, would be required to increase the number of providers in the TRICARE program.

Affected Public: Business or other for-profit; Federal government.

Frequency: One time.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following methods:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: September 11, 2007.
Patricia L. Toppings,
Alternate OSD Federal Register Liaison Officer, Department of Defense.

[FR Doc. 07-4610 Filed 9-17-07; 8:45 am]

BILLING CODE 5001-06-M